DEPARTMENT OF HOMELAND SECURITY

Federal Emergency Management Agency

44 CFR Part 65

[Docket No. FEMA-B-7436]

Changes in Flood Elevation Determinations

AGENCY: Federal Emergency Management Agency (FEMA), Emergency Preparedness and Response Directorate, Department of Homeland Security.

ACTION: Interim rule.

SUMMARY: This interim rule lists communities where modification of the Base (1-percent-annual-chance) Flood Elevations (BFEs) is appropriate because of new scientific or technical data. New flood insurance premium rates will be calculated from the modified Base Flood Elevations for new buildings and their contents.

DATES: These modified BFEs are currently in effect on the dates listed in the table below and revise the Flood Insurance Rate Maps in effect prior to this determination for each listed community.

From the date of the second publication of these changes in a newspaper of local circulation, any person has ninety (90) days in which to request through the community that the Mitigation Division Director for the Emergency Preparedness and Response Directorate reconsider the changes. The modified elevations may be changed during the 90-day period.

ADDRESSES: The modified BFEs for each community are available for inspection at the office of the Chief Executive Officer of each community. The respective addresses are listed in the table below.

FOR FURTHER INFORMATION CONTACT: Mary Jean Pajak, Federal Emergency Management Agency, 500 C Street SW., Washington, DC 20472, (202) 646-2831.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to Section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified elevations, together with the floodplain management criteria required by 44 CFR 60.3, are minimum that are required. They should not be construed to mean that the community must change any existing ordinances that are more stringent in their floodplain management requirements. The community may at any time enact stricter requirements of its own, or pursuant to policies established by the other Federal, State, or regional entities.

The changes in are in accordance with 44 CFR 65.4.

National Environmental Policy Act. This rule is categorically excluded from the requirements of 44 CFR Part 10, Environmental Consideration. No environmental impact assessment has been prepared.

Regulatory Flexibility Act. The Mitigation Division Director for the Emergency Preparedness and Response Directorate certifies that this rule is exempt from the requirements of the Regulatory Flexibility Act because modified base flood elevations are required by the Flood Disaster Protection Act of 1973, 42 U.S, C. 4105, and are required to maintain community eligibility in the NFIP. No regulatory flexibility analysis has been prepared.

Regulatory Classification. This interim rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of Section 2(b)(2) of Executive Order 12778.

List of Subjects in 44 CFR Part 65

Flood insurance, Floodplains, Reporting and recordkeeping requirements.

Accordingly, 44 CFR part 65 is amended to read as follows:

PART 65—[AMENDED]

1. The authority citation for part 65 continues to read as follows:

Authority : 42 U.S.C. 4001 et seq.; Reorganization Plan No. 3 of 1978, 3 CFR, 1978 Comp., p. 329; E.O. 12127, 44 CFR 19367, 3 CFR, 1979 Comp., p. 376.

§ 65.4 [Amended]

2. The tables published under the authority of § 65.4 are amended as follows:

State and county | Location and Case No. | Date and name of newspaper where notice was published | Chief executive officer of community | Effective date of modification | Community No.
Arizona: |  |  |  |  |
Cochise | City of Sierra Vista (01-09-019P) | Dec. 26, 2002, Jan. 2, 2003, Sierra Vista Herald | The Honorable Thomas J. Hessler, Mayor, City of Sierra Vista, 1011 North Coronado Drive, Sierra Vista, Arizona 85635 | Jul. 31, 2001 | 040017
Cochise | City of Sierra Vista (00-09-1071P) | Dec. 26, 2002, Jan. 2, 2003, Sierra Vista Herald | The Honorable Thomas J. Hessler, Mayor, City of Sierra Vista, 1011 North Coronado Drive, Sierra Vista, Arizona 85635 | Apr. 24, 2001 | 040017
Cochise | Unincorporated Areas (00-09-1071P) | Jan. 17, 2001, Jan. 24, 2001, Arizona Range News | The Honorable Mike Palmer, Chairman, Cochise County Board of Supervisors, 1415 West Melody Lane, Bisbee, Arizona 85603 | Apr. 24, 2001 | 040012
Cochise | City of Willcox (02-09-726P) | Feb. 19, 2003, Feb. 26, 2003, Arizona Range News | The Honorable Marlin Easthouse, Mayor, City of Willcox, 101 South Railroad Avenue, Willcox, Arizona 85643 | Jan. 27, 2003 | 040018
Coconino | Unincorporated Areas (02-09-1336P) | Feb. 13, 2003, Feb. 20, 2003, Arizona Daily Sun | The Honorable Deb Hill, Chairperson, Coconino County Board of Supervisors, 219 East Cherry Avenue, Flagstaff, Arizona 86001 | Jan. 30, 2003 | 040019
Maricopa | City of Avondale (03-09-0278P) | Feb. 20, 2003, Feb. 27, 2003, Arizona Republic | The Honorable Ronald J. Drake, Mayor, City of Avondale, 525 North Central Avenue, Avondale, Arizona 85323 | Feb. 12, 2003 | 040038
Maricopa | City of El Mirage (01-09-017P) | Feb. 6, 2003, Feb. 13, 2003, Arizona Republic | The Honorable Robert Robles, Mayor, City of El Mirage, P.O. Box 26, El Mirage, Arizona 85335 | May 15, 2003 | 040041
Maricopa | City of Glendale (01-09-017P) | Feb. 6, 2003, Feb. 13, 2003, Arizona Republic | The Honorable Elaine M. Scruggs, Mayor, City of Glendale, 5850 West Glendale Avenue, Glendale, Arizona 85301 | May 15, 2003 | 040045
Maricopa | City of Mesa (02-09-950P) | Jan. 9, 2003, Jan. 16, 2003, Arizona Business Gazette | The Honorable Keno Hawker, Mayor, City of Mesa, P.O. Box 1466, Mesa, Arizona 85211-1466 | Apr. 17, 2003 | 040048
Maricopa | City of Peoria (01-09-017P) | Feb. 6, 2003, Feb. 13, 2003, Arizona Republic | The Honorable John C. Keegan, Mayor, City of Peoria, 8401 West Monroe Street, Peoria, Arizona 85345 | May 15, 2003 | 040050
Maricopa | City of Phoenix (02-09-943P) | Apr. 10, 2003, Apr. 17, 2003, Arizona Business Gazette | The Honorable Skip Rimzsa, Mayor, City of Phoenix, 200 West Washington Street, 11th Floor, Phoenix, Arizona 85003-1611 | Jul. 17, 2003 | 040051
Maricopa | City of Tolleson (02-09-943P) | Apr. 10, 2003, Apr. 17, 2003, Arizona Business Gazette | The Honorable Adolfo F. Gamez, Mayor, City of Tolleson, 9555 West Van Buren Street, Tolleson, Arizona 85353 | Jul. 17, 2003 | 040055
Maricopa | Unincorporated Areas (01-09-017P) | Feb. 6, 2003, Feb. 13, 2003, Arizona Republic | The Honorable Don Stapley, Chairman, Maricopa County Board of Supervisors, 301 West Jefferson, 10th Floor, Phoenix, Arizona 85003 | May 15, 2003 | 040037
Pima | City of Tucson (02-09-1252P) | Feb. 27, 2003, Mar. 6, 2003, Daily Territorial | The Honorable Robert Walkup, Mayor, City of Tucson, P.O. Box 27210, Tucson, Arizona 85726 | Feb. 12, 2003 | 040076
California: |  |  |  |  |
Kern | City of Arvin (02-09-866P) | Apr. 17, 2003, Apr. 24, 2003, Bakersfield Californian | The Honorable Juan Olivares, Mayor, City of Arvin, 200 Campus Drive, Arvin, California 93203 | Jul. 17, 2003 | 060076
Kern | City of Bakersfield (02-09-866P) | Apr. 17, 2003, Apr. 24, 2003, Bakersfield Californian | The Honorable Harvey L. Hall, Mayor, City of Bakersfield, City Hall, 1501 Truxtun Avenue, Bakersfield, California 93301 | Jul. 17, 2003 | 060077
Kern | Unincorporated Areas (02-09-866P) | Apr. 17, 2003, Apr. 24, 2003, Bakersfield Californian | The Honorable Pete H. Parra, Chair, Kern County Board of Supervisors, 1115 Truxton Avenue, Fifth Floor, Bakersfield, California 93301-4617 | Jul. 17, 2003 | 060075
Los Angeles | City of Los Angeles (03-09-0035P) | Feb. 13, 2003, Feb. 20, 2003, Los Angeles Times | The Honorable James Hahn, Mayor, City of Los Angeles, City Hall, 200 North Spring Street, Room 303, Los Angeles, California 90012 | May 15, 2003 | 060137
Orange | City of Buena Park (02-01323P) | Mar. 12, 2003, Mar. 19, 2003, Buena Park Independent | The Honorable Steve Berry, Mayor, City of Buena Park, 6650 Beach Boulevard, Buena Park, California 90622-5009 | Jun. 18, 2003 | 060215
Orange | City of Orange (02-09-910P) | Feb. 13, 2003, Feb. 20, 2003, Orange County Register | The Honorable Mark A. Murphy, Mayor, City of Orange, 300 East Chapman Avenue, Orange, Calfornia 92866 | May 22, 2003 | 060228
Placer | City of Roseville (02-09-1258P) | Feb. 19, 2003, Feb. 26, 2003 Roseville Press-Tribune | The Honorable Rocky Rockholm, Mayor, City of Roseville, 311 Vernon Street, Roseville, California 95678 | May 28, 2003 | 060243
Riverside | City of Riverside (01-09-652P) | Mar. 20, 2003, Mar. 27, 2003, Press Enterprise | The Honorable Ronald O. Loveridge, Mayor, City of Riverside, 3900 Main Street, Riverside, California 92522 | Jun. 26, 2003 | 060260
San Diego | City of Escondido (02-09-714P) | Jan. 16, 2003, Jan. 23, 2003, North County Times | The Honorable Lori Holt Pfeiler, Mayor, City of Escondido, 201 North Broadway, Escondido, California 92025 | Apr. 24, 2003 | 060290
San Diego | City of Poway (03-09-0026P) | Feb. 20, 2003, Feb. 27, 2003, Poway News Chieftain | The Honorable Mickey Cafagna, Mayor, City of Poway, P.O. Box 789, Poway, California 92074-0789 | May 29, 2003 | 060702
San Diego | City of San Diego (02-09-1505P) | Jan. 23, 2003, Jan. 30, 2003, San Diego Union Tribune | The Honorable Richard M. Murphy, Mayor, City of San Diego, 202 C Street, 11th Floor, San Diego, California 92101 | May 1, 2003 | 060295
San Diego | Unincorporated Areas (02-09-714P) | Jan. 16, 2003, Jan. 23, 2003, North County Times | The Honorable Ron Roberts, Chairman, San Diego County Board of Supervisors, 1600 Pacific Highway, Room 335, San Diego, California 92101 | Apr. 24, 2003 | 060284
San Diego | Unincorporated Areas (03-09-0198P) | Apr. 17, 2003, Apr. 24, 2003, San Diego Union-Tribune | The Honorable Greg Cox, Chairman, San Diego County Board of Supervisors, 1600 Pacific Highway, Room 335, San Diego, California 92101 | Jul. 24, 2003 | 060284
Santa Barbara | Unincorporated Areas (03-09-0009P) | Apr. 17, 2003, Apr. 24, 2003, Santa Barbara News-Press | The Honorable Naomi Schwartz, Chair, Santa Barbara County Board of Supervisors, 105 East Anapamu Street, Santa Barbara, California 93101 | Mar. 18, 2003 | 060331
Shasta | City of Anderson (03-09-0704X) | Mar. 18, 2003, Mar. 25, 2003, The Valley Post | The Honorable Norma R. Comnick, Mayor, City of Anderson, City Hall, 1887 Howard Street, Anderson, California 96007 | Jun. 25, 2003 | 060359
Ventura | Unincorporated Areas (02-09-1500P) | Jan. 23, 2003, Jan. 30, 2003, Ventura County Star | The Honorable William Davis, Mayor, City of Simi Valley, 2929 Tapo Canyon Road, Simi Valley, California 93063 | Dec. 19, 2002 | 060421
Ventura | Unincorporated Areas (03-09-0007P) | Mar. 27, 2003, Apr. 3, 2003, Ventura County Star | The Honorable Judy Mikels, Chair, Ventura County Board of Supervisors, 800 South Victoria Avenue, Ventura, California 93009 | Mar. 5, 2003 | 060413
Ventura | Unincorporated Areas (03-09-0007P) | Mar. 27, 2003, Apr. 3, 2003, Ventura County Star | The Honorable Judy Mikels, Chair, Ventura County Board of Supervisors, 800 South Victoria Avenue, Ventura, California 93009 | Mar. 5, 2003 | 060413
Yolo | City of Woodland (02-09-1469P) | Apr. 2, 2003, Apr. 9, 2003, Davis Enterprise | The Honorable David Flory, Mayor, City of Woodland, City Hall, 300 First Street, Woodland, California 95695 | Jul. 9, 2003 | 060426
Yolo | Unincorporated Areas (02-09-1469P) | Apr. 2, 2003, Apr. 9, 2003, Davis Enterprise | The Honorable Lynnel Pollock, Chair, Yolo County Board of Supervisors, 625 Court Street, Room 204, Woodland, California 95695 | Jul. 9, 2003 | 060423
Colorado: |  |  |  |  |
Adams | City of Westminster (02-08-211P) | Feb. 20, 2003, Feb. 27, 2003, Westminster Window | The Honorable Ed Moss, Mayor, City of Westminster, 4800 West 92nd Avenue, Westminster, Colorado 80031 | May 29, 2003 | 080008
Adams | City of Westminster (03-08-0145P) | Apr. 3, 2003, Apr. 10, 2003, Westminster Window | The Honorable Ed Moss, Mayor, City of Westminster, 4800 West 92nd Avenue, Westminster, Colorado 80031 | Jul. 10, 2003 | 080008
Adams | Unincorporated Areas (02-08-211P) | Feb. 20, 2003, Feb. 27, 2003, Westminster Window | The Honorable Ted Strickland, Chairman, Adams County Board of Commissioners, 450 South Fourth Avenue, Brighton, Colorado 80601 | May 29, 2003 | 080001
Douglas | Town of Parker (02-08-491P) | Mar. 19, 2003, Mar. 26, 2003, Douglas County News-Press | The Honorable Gary Lasater, Mayor, Town of Parker, 20120 East Mainstreet, Parker, Colorado 80138-7334 | Jun. 25, 2003 | 080310
Douglas | Unincorporated Areas (01-08-358P) | Jan. 16, 2003, Jan. 23, 2003, Denver Post | The Honorable Melanie Worley, Chair, Douglas County Board of Commissioners, 100 Third Street, Castle Rock, Colorado 80104 | Apr. 24, 2003 | 080049
Douglas | Unincorporated Areas (02-08-491P) | Mar. 19, 2003, Mar. 26, 2003, Douglas County News-Press | The Honorable Melanie Worley, Chair, Douglas County Board of Commissioners, 100 Third Street, Castle Rock, Colorado 80104 | Jun. 25, 2003 | 080049
El Paso | City of Colorado Springs (02-08-490P) | Mar. 26, 2003, Apr. 2, 2003, The Gazette | The Honorable Mary Lou Makepeace, Mayor, City of Colorado Springs, P.O. Box 1575, Colorado Springs, Colorado 80901 | Jul. 2, 2003 | 080060
Fremont | Unincorporated Areas (02-08-269P) | Dec. 11, 2002, Dec. 18, 2002, Canon City Daily Record | The Honorable Joe Rall, Chair, Fremont County Board of Commissioners, 615 Macon Avenue, Canon City, Colorado 81212 | Mar. 19, 2003 | 080067
Jefferson | City of Lakewood (03-08-0090P) | Feb. 27, 2003, Mar. 6, 2003, Lakewood Sentinel | The Honorable Steve Burkholder, Mayor, City of Lakewood, Lakewood Civic Center South, 480 South Allison Parkway, Lakewood, Colorado 80226-3127 | Jun. 5, 2003 | 085075
Larimer | City of Fort Collins (02-08-499P) | Feb. 13, 2003, Feb. 20, 2003, Fort Collins Coloradoan | The Honorable Ray Martinez, Mayor, City of Fort Collins, P.O. Box 580, Fort Collins, Colorado 80522-00580 | May 22, 2003 | 080102
Hawaii: |  |  |  |  |
Hawaii | Hawaii County (02-09-1456P) | Jan. 16, 2003, Jan. 23, 2003, Hawaii Tribune Herald | The Honorable Harry Kim, Mayor, Hawaii County, 25 Aupuni Street, Hilo, Hawaii 96720 | Apr. 24, 2003 | 155166
Maui | Maui County (03-09-0144P) | Jan. 30, 2003, Feb. 6, 2003, Maui News | The Honorable James H. Apana, Mayor, County of Maui, 200 South High Street, Wailuku, Hawaii 96793 | May 8, 2003 | 150003
Idaho: |  |  |  |  |
Ada | Unincorporated Areas (03-10-0228P) | Mar. 13, 2003, Mar. 20, 2003, Idaho Statesman | The Honorable Rogers Simmons, Chair, Ada County Board of Commissioners, 200 West Front Street, Boise, Idaho 83702 | Feb. 20, 2003 | 160002
Blaine | Unincorporated Areas (02-10-700P) | Feb. 12, 2003, Feb. 19, 2003, Wood River Journal | The Honorable Mary Ann Mix, Chair, Blaine County Board of Commissioners, 206 First Avenue South, Suite 300, Hailey, Idaho 83333 | May 21, 2003 | 165167
Bonner | City of Clark Fork (02-10-714X) | Jan. 3, 2003, Jan. 10, 2003, Bonner County Daily Bee | The Honorable Tom Shields, Mayor, City of Clark Fork, P.O. Box 10, Clark Fork, Idaho 83811 | Dec. 18, 2002 | 160132
Bonner | Unincorporated Areas (02-10-714X) | Jan. 3, 2003, Jan. 10, 2003, Bonner County Daily Bee | The Honorable Jerry Clemons, Chair, Bonner County Board of Commissioners, 215 South First Avenue, Sandpoint, Idaho 83864 | Dec. 18, 2002 | 160206
Canyon | City of Middleton (02-10-391P) | Mar. 27, 2003, Apr. 3, 2003, Idaho Press Tribune | The Honorable Frank McKeever, Mayor, City of Middleton, City Hall, P.O. Box 176, Middleton, Idaho 83644 | Jul. 3, 2003 | 160037
Canyon | Unincorporated Areas (02-10-391P) | Mar. 27, 2003, Apr. 3, 2003, Idaho Press Tribune | The Honorable Todd Lakey, Chair, Canyon County Board of Commissioners, 1115 Albany Street, Caldwell, Idaho 83605-3522 | Jul. 3, 2003 | 160208
Missouri: Clay | City of Smithville (03-07-0112P) | Jan. 8, 2003, Jan. 15, 2003, Smithville Herald | The Honorable Ron Van Winkle, Mayor, City of Smithville, 107 West Main Street, Smithville, Missouri 64089 | Apr. 23, 2003 | 295271
Texas: Denton | City of Lewisville (00-06-841P) | Feb. 21, 2003, Feb. 26, 2003, Denton County Morning News | The Honorable Gene Carey, Mayor, City of Lewisville, P.O. Box 299002, Lewisville, Texas 75029-9002 | Aug. 2, 2001 | 480195
Washington: King | Unincorporated Areas (02-10-452P) | Feb. 13, 2003, Feb. 20, 2003, Seattle Times | The Honorable Ron Sims, King County Executive, King County Courthouse, 516 Third Avenue, Suite 400, Seattle, Washington 98104 | May 22, 2003 | 530071

(Catalog of Federal Domestic Assistance No. 83.100, “Flood Insurance.”)

Dated: May 21, 2003.
Anthony S. Lowe,
Mitigation Division Director, Emergency Preparedness and Response Directorate.

[FR Doc. 03-13206 Filed 5-27-03; 8:45 am]

BILLING CODE 6718-04-P